DEPARTMENT OF DEFENSE

Office of the Secretary

[Docket ID: DoD-2009-OS-0122]

Privacy Act of 1974; System of Records

AGENCY: Defense Logistics Agency, DoD.

ACTION: Notice to Amend a System of Records.

SUMMARY: The Defense Logistics Agency is proposing to amend a system of records notice in its existing inventory of record systems subject to the Privacy Act of 1974 (5 U.S.C. 552a), as amended.

DATES: The proposed action will be effective without further notice on September 8, 2009 unless comments are received which would result in a contrary determination.

ADDRESSES: Chief Privacy and FOIA Officer, Headquarters Defense Logistics Agency, ATTN: DGA, 8725 John J. Kingman Road, Suite 1644, Fort Belvoir, VA 22060-6221

FOR FURTHER INFORMATION CONTACT: Mr. Lewis Oleinick at (703) 767-6194.

SUPPLEMENTARY INFORMATION: The Defense Logistics Agency's system of record notices subject to the Privacy Act of 1974 (5 U.S.C. 552a), as amended, have been published in the Federal Register and are available from the address above.

The specific changes to the record system being amended are set forth below followed by the notice, as amended, published in its entirety. The proposed amendment is not within the purview of subsection (r) of the Privacy Act of 1974 (5 U.S.C. 552a), as amended, which requires the submission of new or altered systems reports.

Dated: July 28, 2009.
Patricia L. Toppings,
OSD Federal Register Liaison Officer, Department of Defense.

S180.10

SYSTEM NAME:

Congressional, Executive, and Political Inquiry Records (September 4, 2007, 72 FR 506668).

CHANGES:

* * * * *

Categories of Records in the System:

Delete entry and replace with “Records contain representative's name, constituent's name, details surrounding the issue being researched and control number. The records may also contain the constituent's home address, home telephone number, or related personal information provided by the constituent/representative making the inquiry.”

Authority for Maintenance of the System:

Delete entry and replace with “5 U.S.C. 301, Departmental Regulations; 10 U.S.C. 133, Under Secretary of Defense for Acquisition and Technology; and DOD Directive 5400.04, Provision of Information to Congress.”

* * * * *

Safeguards:

Delete entry and replace with “Records are maintained in a secure, limited access, or monitored work area. Physical entry by unauthorized persons is restricted by the use of locks, guards, or administrative procedures. Access to personal information is restricted to those who require the records in the performance of their official duties. Access to computer records is further restricted to DL staff only. All personnel whose official duties require access to the information are trained in the proper safeguarding and use of the information.”

* * * * *

Notification Procedure:

Delete entry and replace with “Individuals seeking to determine whether information about themselves is contained in this system should address written inquiries to the DLA Privacy Act Office, Headquarters, Defense Logistics Agency, ATTN: DGA, 8725 John J. Kingman Road, Suite 1644, Fort Belvoir, VA 22060-6221.

Individuals should provide their name, home address, and representative's name.”

Record Access Procedures:

Delete entry and replace with “Individuals seeking access to information about themselves contained in this system should address written inquiries to the DLA Privacy Act Office, Headquarters, Defense Logistics Agency, ATTN: DGA, 8725 John J. Kingman Road, Suite 1644, Fort Belvoir, VA 22060-6221.

Individuals should provide their name, home address, and representative's name.”

* * * * *

S180.10

System Name:

Congressional, Executive, and Political Inquiry Records.

System Location:

Office of Legislative Affairs, Headquarters Defense Logistics Agency, 8725 John J. Kingman Road, Suite 2545, Fort Belvoir, VA, 22060-6221, and the DLA Primary Level Field Activities. Mailing addresses for the DLA Primary Level Field Activities may be obtained from the System manager.

Categories of Individuals Covered by the System:

Individuals, organizations, and other entities who have requested Members of State and Federal Legislative and Executive Branches of Government make inquiries on their behalf.

Categories of Records in the System:

Records contain representative's name, constituent's name, details surrounding the issue being researched and control number. The records may also contain the constituent's home address, home telephone number, or related personal information provided by the constituent/representative making the inquiry.

Authority for Maintenance of the System:

5 U.S.C. 301, Departmental Regulations; 10 U.S.C. 133, Under Secretary of Defense for Acquisition and Technology; and DOD Directive 5400.04, Provision of Information to Congress.

Purpose(s):

Information is collected to reply to inquiries and to determine the need for and course of action to be taken for resolution. Information may be used by the DLA Director, Chief of Staff, DLA Senior Leadership and DLA Primary Level Field Activity Commanders and decision makers as a basis to institute policy or procedural changes.

Routine Uses of Records Maintained in the System, Including Categories of Users and the Purposes of Such Uses:

In addition to those disclosures generally permitted under 5 U.S.C. 552a(b) of the Privacy Act of 1974, these records may specifically be disclosed outside the DoD as a routine use pursuant to 5 U.S.C. 552a(b)(3) as follows:

Information is furnished to Members/Staff of State and Federal Legislative and Executive Branches of Government who wrote to DLA on behalf of the constituent and who use it to respond to the constituent, or for other related purposes.

To Federal and local government agencies having cognizance over or authority to act on the issues involved.

The DoD “Blanket Routine Uses” apply to this system of records.

Policies and Practices for Storing, Retrieving, Accessing, Retaining, and Disposing of Records in the System:

Storage:

Records are stored in paper and electronic form.

Retrievability:

Retrieved by constituent name, representative name, or control number.

Safeguards:

Records are maintained in a secure, limited access, or monitored work area. Physical entry by unauthorized persons is restricted by the use of locks, guards, or administrative procedures. Access to personal information is restricted to those who require the records in the performance of their official duties. Access to computer records is further restricted to DL staff only. All personnel whose official duties require access to the information are trained in the proper safeguarding and use of the information.

Retention and Disposal:

Records are destroyed after eight years.

System Manager(s) and Address:

Director, Legislative Affairs, Headquarters, Defense Logistics Agency, 8725 John J. Kingman Road, Suite 2533, Fort Belvoir, VA 22060-6221, and the DLA Primary Level Field Activity Commanders.

Notification Procedure:

Individuals seeking to determine whether information about themselves is contained in this system should address written inquiries to the DLA Privacy Act Office, Headquarters, Defense Logistics Agency, ATTN: DGA, 8725 John J. Kingman Road, Suite 1644, Fort Belvoir, VA 22060-6221.

Individuals should provide their name, home address, and representative's name.

Record Access Procedures:

Individuals seeking access to information about themselves contained in this system should address written inquiries to the DLA Privacy Act Office, Headquarters, Defense Logistics Agency, ATTN: DGA, 8725 John J. Kingman Road, Suite 1644, Fort Belvoir, VA 22060-6221.

Individuals should provide their name, home address, and representative's name.

Contesting Record Procedures:

The DLA rules for accessing records, for contesting contents, and appealing initial agency determinations are contained in 32 CFR part 323, or may be obtained from the DLA Privacy Act Office, Headquarters, Defense Logistics Agency, ATTN: DGA, 8725 John J. Kingman Road, Suite 1644, Fort Belvoir, VA 22060-6221.

Record Source Categories:

Information is provided by constituent, the constituent's representative, and from agency files.

Exemptions Claimed for the System:

None.

[FR Doc. E9-18908 Filed 8-6-09; 8:45 am]

BILLING CODE 5001-06-P